DEPARTMENT OF ENERGY

Federal Energy Regulatory Commission

[Docket No. RP00-462-003 and RP01-37-005]

Equitrans, L.P.; Notice of Compliance Filing

November 15, 2002.

Take notice that on November 12, 2002, Equitrans, L.P. (Equitrans) tendered for filing as part of its FERC Gas Tariff, Original Volume No. 1, the following revised tariff sheets to become effective on November 1, 2002:

First Revised Sheet No. 201

First Revised Sheet No. 227

Second Revised Sheet No. 245

First Revised Sheet No. 246

First Revised Sheet No. 249

Second Revised Sheet No. 253

Second Revised Sheet No. 254

Second Revised Sheet No. 267

First Revised Sheet No. 268

First Revised Sheet No. 269

Second Revised Sheet No. 270

First Revised Sheet No. 271

Second Revised Sheet No. 286

Second Revised Sheet No. 306

Equitrans states that the purpose of this tariff filing is to comply with the Commission's Order issued October 10, 2002, on the compliance by Equitrans with Commission Order Nos. 637, 587-G and 587-L.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-29721 Filed 11-20-02; 8:45 am]

BILLING CODE 6717-01-P